FEDERAL MARITIME COMMISSION

46 CFR Part 506

[Docket No. 09-04]

RIN 3072-AC36

Inflation Adjustment of Civil Monetary Penalties; Correction

AGENCY: Federal Maritime Commission.

ACTION: Correcting amendments.

SUMMARY: The Federal Maritime Commission is correcting information contained in a table in a rule published in the Federal Register of Friday, July 31, 2009 (74 FR 38114). The rule adjusts for inflation the maximum amount of each statutory civil penalty subject to Federal Maritime Commission jurisdiction, in accordance with the requirements of the Federal Civil Penalties Inflation Adjustment Act of 1990, as amended by the Debt Collection Improvement Act of 1996.

DATES: December 1, 2011.

FOR FURTHER INFORMATION CONTACT: Rebecca A. Fenneman, General Counsel, (202) 523-5740.

SUPPLEMENTARY INFORMATION: The final regulation that is the subject of these corrections appears at 46 CFR 506.4(d), in a table setting out adjustments based on inflation for maximum civil monetary penalties within the jurisdiction of the Federal Maritime Commission. These corrections change the third United States Code citation and the civil monetary penalty description, associated with violations of the Shipping Act of 1984, Commission regulations or orders, which are not done knowingly and willfully. The United States Code citation associated with violations of the Shipping Act that are not committed knowingly and willfully is currently incorrectly shown in the table as 46 U.S.C. 41107(b), rather than as 46 U.S.C. 41107(a). In addition, the civil monetary penalty description incorrectly describes the violations as “not knowing or willful,” rather than as “not knowing and willful.” These corrections clarify that the correct United States Code citation is 46 U.S.C. 41107(a), and the correct violation description is “not knowing and willful.”

List of Subjects in 46 CFR Part 506

Administrative practice and procedure, Penalties.

Accordingly, 46 CFR Part 506 is corrected by making the following correcting amendments:

PART 506—CIVIL MONETARY PENALTY INFLATION ADJUSTMENT

1. The authority citation for part 506 continues to read as follows:

Authority: 28 U.S.C. 2461.

2. In § 506.4, revise paragraph (d) to read as follows:

§ 506.4 Cost of living adjustments of civil monetary penalties.

* * * * *

(d) Inflation adjustment. Maximum Civil Monetary Penalties within the jurisdiction of the Federal Maritime Commission are adjusted for inflation as follows:

United States Code citation | Civil monetary penalty description | Current maximum penalty amount | New adjusted maximum penalty amount
46 U.S.C. 42304 | Adverse impact on U.S. carriers by foreign shipping practices | 1,175,000 | 1,500,000
46 U.S.C. 41107(a) | Knowing and willful violation/Shipping Act of 1984, or Commission regulation or order | 30,000 | 40,000
46 U.S.C. 41107(a) | Violation of Shipping Act of 1984, Commission regulation or order, not knowing and willful | 6,000 | 8,000
46 U.S.C. 41108(b) | Operating in foreign commerce after tariff suspension | 60,000 | 75,000
46 U.S.C. 42104 | Failure to provide required reports, etc./Merchant Marine Act of 1920 | 6,000 | 8,000
46 U.S.C. 42106 | Adverse shipping conditions/Merchant Marine Act of 1920 | 1,175,000 | 1,500,000
46 U.S.C. 42108 | Operating after tariff or service contract suspension/Merchant Marine Act of 1920 | 60,000 | 75,000
46 U.S.C. 44102 | Failure to establish financial responsibility for non-performance of transportation | 6,000 220 | 8,000 300
46 U.S.C. 44103 | Failure to establish financial responsibility for death or injury | 6,000 220 | 8,000 300
31 U.S.C. 3802(a)(1) | Program Fraud Civil Remedies Act/makes false claim | 6,000 | 8,000
31 U.S.C. 3802(a)(2) | Program Fraud Civil Remedies Act/giving false statement | 6,000 | 8,000

By the Commission.
Karen V. Gregory,
Secretary.

[FR Doc. 2011-29486 Filed 11-30-11; 8:45 am]

BILLING CODE 6730-01-P